DEPARTMENT OF THE INTERIOR

Bureau of Land Management

[NM-930-00-1040-DF]

Availability of Four Final Environmental Impact Statements (FEISs) and Proposed Riparian and Aquatic Habitat Management Plans (HMPs)

AGENCY: Bureau of Land Management, Interior.

ACTION: Notice of availability.

The Four documents are for:

(1) The Taos Field Office,

(2) The Farmington Field Office,

(3) The Rio Puerco Area of the Albuquerque Field Office, and

(4) The Mimbres Area of the Las Cruces Field Office.

SUMMARY: The Bureau of Land Management (BLM) announces the availability of four Final Environmental Impact Statements and Proposed Riparian and Aquatic Habitat Management Plans. The four documents are for Taos Field Office, Farmington Field Office, the Rio Puerco Area of the Albuquerque Field Office and the Mimbres Area of the Las Cruces Field Office. The agency's preferred alternative is shown in each of the above listed documents. The documents also contain the public comments received and the responses to substantive comments. Following the 30-day availability for the FEISs and the HMPs a Record of Decision (ROD) will be prepared for each project. Copies of the ROD will be mailed to those on the mailing list. Individuals wanting to comment on the changes made in preparing the FEIS or the HMP should send the comments as shown below:

ADDRESSES: Comment on the Taos Field Office Proposed Riparian and Aquatic Habitat Management Plan and FEIS should be sent to: Taos Field Office, Taos HMP/EIS/RMPA Team Leader, 226 Cruz Alta Road, Taos, NM 87571-5983.

Comment on the Farmington Field Office Proposed Riparian and Aquatic Habitat Management Plan and FEIS should be sent to: Farmington Field Office, Farmington HMP/EIS/RMPA Team Leader, 1235 La Plata Highway, Farmington, NM 87401-1808.

Comment on the Albuquerque Field Office Proposed Riparian and Aquatic Habitat Management Plan and FEIS should be sent to: Albuquerque Field Office, Rio Puerco HMP/EIS/RMPA Team Leader, 435 Montano Road, NE, Albuquerque, NM 87107-4935.

Comment on the Las Cruces Field Office Riparian and Aquatic Habitat Management Plan and FEIS should be sent to: Las Cruces Field Office, Mimbres HMP/EIS/RMPA Team Leader, 1800 Marquess Street, Las Cruces, NM 88005-3371.

All comments received will be considered in preparing the RODs. Comments must be mailed to the BLM at the address provided above during the 30-day period which ends October 10, 2000.

Comments, including names and street addresses of respondents, will be available for public review at the above address during regular business hours (8 am to 4:30 pm) Monday through Friday, except holidays.

Individual respondents may request confidentiality. If you wish to withhold your name or street address from public review or from disclosure under the Freedom of Information Act, you must state this prominently at the beginning of your written comments. Such request will be honored to the extent allowed by law. All submissions from organizations or businesses, and from individuals identifying themselves as representatives or officials of organizations or businesses, will be made available for public inspection in their entirety.

FOR FURTHER INFORMATION CONTACT:

(1) Taos Field Office—Pam Herrera—505-751-4705

(2) Farmington Field Office—Bob Moore—505-599-6311

(3) Albuquerque Field Office—Jim Silva—505-761-8901

(4) Las Cruces Field Office—Bill Merhege—505-525-4369

SUPPLEMENTARY INFORMATION: The four Proposed Riparian and Aquatic Habitat Management Plans and Final Environmental Impact Statements are being prepared to provide comprehensive riparian and aquatic management guidance for restoring and protecting riparian habitat under BLM jurisdiction.

Dated: August 25, 2000.
Richard A. Whitley,
Associate State Director, New Mexico.

[FR Doc. 00-22424 Filed 8-31-00; 8:45 am]

BILLING CODE 4310-FB-M